DEPARTMENT OF THE INTERIOR

National Park Service

[N6559; NPS-WASO-NAGPRA-NPS0041182; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from Davidson County, Tennessee and has determined that there is a cultural affiliation between the human remains and associated funerary objects and Indian Tribes or Native Hawaiian organizations in this notice.

DATES: Repatriation of the human remains and associated funerary objects in this notice may occur on or after December 17, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 238 individuals have been identified. The 449 associated funerary objects include 193 artifacts and two hundred and 256 lots of artifacts described below.

Unknown Site, Davidson County, TN

Human Remains representing, at least, 35 individuals. Remains of at least 16 individuals contain no record of timing of acquisition. Remains of at least four individuals were transferred to TDEC-DOA by the Davidson County Medical Examiner. Remains of at least three individuals were donated to TDEC-DOA by the Tennessee State Museum in 1995. Remains of at least 12 individuals were donated to TDEC-DOA by private citizens in 1989, 1991, 2008, 2020, and 2024. There is no known exposure to hazardous substances or treatments.

Site 40DV2, Davidson County, TN

Human remains representing, at least, one individual. These remains were encountered during construction and collected by the Davidson County Medical Examiner. They were transferred to TDEC-DOA in 2010. There is no known exposure to hazardous substances or treatments.

Site 40DV3, Davidson County, TN

Human remains representing, at least, 27 individuals and nine associated funerary objects consisting of one ceramic effigy vessel, six ceramic sherds, one lot of unsorted artifacts, and one lot of freshwater shell. Remains of at least 15 individuals and one lot of AFOs were excavated by TDEC-DOA staff in 1973 prior to construction of Interstate 440; Remains of at least three individuals were donated to TDEC-DOA by the Davidson County Medical Examiner in 1998, with no additional information available regarding the circumstances of collection; Remains of at least four individuals, one effigy vessel, six ceramic sherds, and one lot of AFOs were donated to TDEC-DOA by private citizens in 1971, 2005, 2007, and 2014 with no additional information available regarding the circumstances of collection. Remains of at least four individuals were donated to TDEC-DOA with no additional information available regarding the timing or circumstances of collection; Remains of at least one individual were removed under a Chancery court order in 2016 and donated to TDEC-DOA for repatriation. There is no known exposure to hazardous substances or treatments.

Site 40DV5, Davidson County, TN

Human remains representing, at least, one individual and four associated funerary objects consisting of one ceramic bowl; one effigy ceramic bowl; one shell spoon; and one lot of marine shell beads. This site was excavated in 1991 and 1992 by private consultants prior to a TDOT bridge replacement. Ancestral remains were subsequently reburied by the consultant under Tennessee cemetery law. These materials were curated with TDEC-DOA beginning in 1992. There is no known exposure to hazardous substances or treatments.

Site 40DV6, Davidson County, TN

Human remains representing, at least, 103 individuals and 367 associated funerary objects consisting of one carved deer phalanx; two partial unreconstructed ceramic vessels; nine shell tempered ceramic vessels; six ceramic effigy vessels; 110 marine shell beads; two freshwater bivalve spoons; one unmodified freshwater bivalve shell; one groundstone tool; one soil covered rock; seven soil samples; and 227 lots of associated funerary artifacts. All NAGPRA materials from site 40DV6 (Gordontown site) were recovered by TDEC-DOA staff in 1986 during salvage excavations ahead of subdivision construction. There is no known exposure to hazardous substances or treatments.

Site 40DV7, Davidson County, TN

Human remains representing, at least, two individuals. Remains of at least one individual were collected by a private individual from the shoreline of the Cumberland River and donated to TDEC-DOA in 2024; Remains of at least one individual were recovered by TDEC-DOA staff during construction monitoring in 2011. There is no known exposure to hazardous substances or treatments.

Site 40DV8, Davidson County, TN

Human remains representing, at least, 13 individuals and one associated funerary object consisting of one shell tempered ceramic bowl. Remains of at least 11 individuals and one ceramic bowl were donated to the TDOA by private individuals in 2005 and 2007 with no additional information available regarding the circumstances of collection; Remains of at least one individual were donated to TDEC-DOA with no additional information available regarding the timing or circumstances of collection; Remains of at least one individual were recovered by TDEC-DOA staff in 1990 from stone box graves disturbed during residential water line construction. There is no known exposure to hazardous substances or treatments.

Site 40DV11, Davidson County, TN

Human remains representing, at least, 10 individuals and 16 associated funerary objects consisting of two fragmentary remains of shell tempered ceramic bowls; two freshwater shell spoons; one hooded ceramic effigy bottle; one partially reconstructed ceramic vessel; one short necked ceramic vessel; one ceramic bivalve effigy vessel; one ceramic bowl; one ceramic “rim rider” effigy bowl; one partially reconstructed ceramic vessel from burial floor; and five lots of associated funerary artifacts. Remains of at least two individuals and two partial ceramic bowls were disturbed by earthmoving in 1977 and donated to TDEC-DOA; Remains of at least two individuals were excavated by private consultant and donated to TDEC-DOA in 1980; Remains of at least one individual, 14 AFOs were recovered by a private consultant and donated to TDEC-DOA in 1995; Remains of at least four individuals were excavated by a private individual, seized by law enforcement in Macon County, Tennessee, and transferred to TDEC-DOA in 2005; Remains of at least one individual were recovered in July 1977 and donated to the Cumberland Science Museum, and transferred to TDEC-DOA in 1989. There is no known exposure to hazardous substances or treatments.

Site 40DV12, Davidson County, TN

Human remains representing, at least, eight individuals and one associated funerary object consisting of one shell fragment (which is currently missing). These remains were donated to TDEC-DOA 1991. No record exists as to the donor or original circumstances of collection. There is no known exposure to hazardous substances or treatments.

Site 40DV14, Davidson County, TN

Human remains representing, at least, four individuals. At least one individual was donated TDEC-DOA by the Davidson County Medical Examiner with no information as to the circumstances surrounding collection; At least one individual was collected from an eroded river bank in 1973 and donated to TDEC-DOA in 1977. At least one individual was donated to the TDEC-DOA in 1987 with no record as to the donor, or original circumstances of collection. No information is available regarding the collection or donation of at least one individual. There is no known exposure to hazardous substances or treatments.

Site 40DV15, Davidson County, TN

Human remains representing, at least, three individuals and 18 associated funerary objects consisting of four shell tempered ceramic sherds; two duck effigy ceramic bowls; one frog effigy vessel; one human effigy bowl; one hunch-back hooded effigy bottle; one ceramic bowl; one fire cracked rock; two lithic flakes; one carbon sample; one partial freshwater bivalve; and three wood charcoal fragments. This site was excavated by members of the Southeastern Indians Antiquity Survey in 1966 and 1977 prior to destruction by neighborhood development. The materials were donated to TDEC-DOA in 1986. There is no known exposure to hazardous substances or treatments.

Site 40DV33, Davidson County, TN

Human remains representing, at least, one individual. These remains excavated by a private individual in the 1970s and transferred to TDEC-DOA in 2007. There is no known exposure to hazardous substances or treatments.

Site 40DV39, Davidson County, TN

Human remains representing, at least, three individuals and one associated funerary object consisting of one stone discoidal. At least one individual was donated to TDEC-DOA between 1969 and 1987 with no specific information regarding recovery. At least one individual was donated to TDEC-DOA in 1990 with no specific information regarding recovery. The one stone discodial was recovered by TDEC-DOA staff in 1984. At least one individual was recovered by TDEC-DOA staff between 1969 and 1987. There is no known exposure to hazardous substances or treatments.

Site 40DV58, Davidson County, TN

Human remains representing, at least, two individuals. Remains of at least one individual were donated to TDEC-DOA by a private individual in 2020 with no information as to the circumstances surrounding their collection; no information exists regarding the acquisition of at least one individual. There is no known exposure to hazardous substances or treatments.

Site 40DV60, Davidson County, TN

Human remains representing, at least, one individual. These remains were excavated by a private individual and transferred to TDEC-DOA in 2007. There is no known exposure to hazardous substances or treatments.

Site 40DV83, Davidson County, TN

Human remains representing, at least, one ancestral individual, and 18 associated funerary objects consisting of one dog burial and 17 lots of artifacts from burial feature fill. Ancestral remains from site 40DV83 were removed by TDEC-DOA staff under a Chancery Court order in 1987 ahead of construction. All remains were believed reinterred under Tennessee cemetery law in July 1993. There is no known exposure to hazardous substances or treatments.

Site 40DV131, Davidson County, TN

Human remains representing, at least, one individual. These materials were donated to the Division of Archaeology. No record exists as to the timing, donor, or original circumstances of collection. There is no known exposure to hazardous substances or treatments.

Site 40DV148, Davidson County, TN

Human remains representing, at least, one individual. No record exists as to the timing, donor, or original circumstances of collection. There is no known exposure to hazardous substances or treatments.

Site 40DV152, Davidson County, TN

Human remains representing, at least, two individuals. These remains were removed from the site by a private consultant in 1997 under the terms of a Davidson County Chancery Court order, and transferred to TDEC-DOA in 1997 at the request of the Tennessee Commission of Indian Affairs. There is no known exposure to hazardous substances or treatments.

Site 40DV160, Davidson County, TN

Human remains representing, at least, three individuals. Remains of at least two individuals were recovered by TDEC-DOA staff during construction monitoring in 2011. Remains of at least one individual were collected by a private consultant and donated to TDEC-DOA on 4/16/2012. There is no known exposure to hazardous substances or treatments.

Site 40DV161, Davidson County, TN

Human remains representing, at least, one individual. These remains were transferred to TDEC-DOA by the Davidson County Medical Examiner in 2005. No records exist as to the circumstances of their collection. There is no known exposure to hazardous substances or treatments.

Site 40DV247, Davidson County, TN

Human remains representing, at least, one individual. These remains were excavated by TDEC-DOA staff in 1992 prior to residential development. There is no known exposure to hazardous substances or treatments.

Site 40DV266, Davidson County, TN

Human remains representing, at least, one individual. No information is available regarding the collection or donation of these remains. There is no known exposure to hazardous substances or treatments.

Site 40DV301, Davidson County, TN

Human remains representing, at least, one individual, and nine associated funerary objects consisting of one lithic drill; two shell beads; two fragmented shell beads; one partial ceramic vessel; and three lots of marine shell beads. Remains of at least one individual were collected by a private individual and donated to TDEC-DOA in 1989. No information exists as to the circumstances surrounding their collection. All AFOs were excavated by a private consultant under a Chancery Court order in 1989 and donated to TDEC-DOA. The associated skeletal remains were reburied by the consultant under Tennessee cemetery law. There is no known exposure to hazardous substances or treatments.

Site 40DV307, Davidson County, TN

Human remains representing, at least, three individuals. Remains of at least two individuals were collected by TDEC-DOA staff from the eroding river bank in 2010; Remains of at least one individual were collected by a private individual and donated to TDEC-DOA in 2011. There is no known exposure to hazardous substances or treatments.

Site 40DV317, Davidson County, TN

Human remains representing, at least, one individual. These remains were collected by Metro Nashville law enforcement and turned over to the Nashville Medical Examiner. In 2024 they were transferred to TDEC-DOA care. There is no known exposure to hazardous substances or treatments.

Site 40DV392, Davidson County, TN

Human remains representing, at least, one individual, and one associated funerary object consisting of one ceramic sherd. Remains of at least one individual were collected from disturbed context by TDEC-DOA staff in 1992. The site was excavated by a private consultant in 1998 under a Chancery Court order, with all ancestral remains subsequently reburied by the consultant under Tennessee cemetery law. The one ceramic sherd entered TDEC-DOA care in 1997. There is no known exposure to hazardous substances or treatments.

Site 40DV434, Davidson County, TN

Human remains representing, at least, one individual. These remains were excavated by a private individual in the late 1970s and donated to TDEC-DOA in 2005. There is no known exposure to hazardous substances or treatments.

Site 40DV525, Davidson County, TN

Human remains representing, at least, one individual. No information is available regarding the collection or donation of these remains. There is no known exposure to hazardous substances or treatments.

Site 40DV551, Davidson County, TN

Human remains representing, at least, two individuals. These remains were collected from the site surface by TDEC-DOA staff in 2000 and 2010. There is no known exposure to hazardous substances or treatments.

Site 40DV556, Davidson County, TN

Human remains representing, at least, three individuals, and four associated funerary objects consisting of three lithic flakes and one lot of associated faunal material. These materials were excavated by a private individual in the late 1960s and included in an estate. They were donated to TDEC-DOA in 2019 for repatriation. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of 238 individuals of Native American ancestry.

• The 449 objects described in this notice are reasonably believed to have been placed intentionally with or near individual human remains at the time of death or later as part of the death rite or ceremony.

• There is a connection between the human remains and associated funerary objects described in this notice and the Absentee-Shawnee Tribe of Indians of Oklahoma; Alabama-Coushatta Tribe of Texas; Cherokee Nation; Eastern Band of Cherokee Indians; Eastern Shawnee Tribe of Oklahoma; Shawnee Tribe; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 17, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: September 18, 2025.
Melanie O'Brien,
Manager, National NAGPRA Program.

[FR Doc. 2025-19955 Filed 11-14-25; 8:45 am]

BILLING CODE 4312-52-P